DEPARTMENT OF HOMELAND SECURITY

Coast Guard

46 CFR Parts 1, 10, 11, 12, 13, 14, and 15

[Docket No. USCG-2014-0016]

Policy Implementing the Standards of Training, Certification, and Watchkeeping Final Rule

AGENCY: Coast Guard, DHS.

ACTION: Notice of availability.

SUMMARY: The Coast Guard announces the availability of ten Navigation and Vessel Inspection Circulars (NVICs), which are the second set of a series of NVICs to implement the Final Rule that aligned Coast Guard regulations with amendments to the International Convention on Standards of Training, Certification and Watchkeeping for Seafarers and made changes to national endorsements. These NVICs will provide guidance to mariners concerning new regulations governing merchant mariner certificates and endorsements to Merchant Mariner Credentials (MMC).

DATES: These NVICs are effective on May 8, 2014.

FOR FURTHER INFORMATION CONTACT: If you have questions about this notice, call or email Luke B. Harden, Mariner Credentialing Program Policy Division (CG-CVC-4), U.S. Coast Guard; telephone 202-372-2357, or MMCPolicy@uscg.mil. If you have questions on viewing material in the docket, call Cheryl Collins, Program Manager, Docket Operations, telephone 202-366-9826.

SUPPLEMENTARY INFORMATION:

Viewing Documents

The ten NVICs listed below are available and can be viewed by going to http://www.uscg.mil/nmc and clicking on “STCW Rule Information,” then click on “STCW Rule NVICs”.

Discussion

On December 24, 2014, the Coast Guard published a Final Rule in the Federal Register (78 FR 77796) amending Title 46, Code of Federal Regulations, to implement the International Convention on Standards of Training, Certification and Watchkeeping for Seafarers, as amended 1978 (STCW Convention), including the 2010 amendments to the STCW Convention, and the Seafarers' Training, Certification and Watchkeeping Code. The final rule also made changes to reorganize, clarify, and update regulations for credentialing merchant mariners. In the future, the Coast Guard will issue additional NVICs to provide further guidance on the implementation of the new regulations regarding merchant mariner certificates and endorsements to Merchant Mariner Credentials (MMCs). The ten NVICs listed below represent the second phase of this effort:

1. Guidelines for Qualification for STCW Endorsements as Master or Chief Mate on Vessels of 3,000 GT or More (Management Level) (NVIC 10-14). This NVIC describes policy for merchant mariners to qualify for and renew STCW endorsements as Master and Chief Mate for service on vessels of 3,000 Gross Tonnage (GT) or more.

2. Guidelines for Qualification for STCW Endorsements as Master or Chief Mate on Vessels of 500 GT or More and Less Than 3,000 GT (Management Level) (NVIC 11-14). This NVIC describes policy for merchant mariners to qualify for and renew STCW endorsements as Master and Chief Mate for service on vessels of 500 GT or more and less than 3,000 GT.

3. Guidelines for Qualification for STCW Endorsements as Officer in Charge of a Navigational Watch on Vessels of 500 GT or More (NVIC 12-14). This NVIC describes policy for merchant mariners to qualify for and renew STCW endorsements as Officer in Charge of a Navigational Watch (OICNW) for service on vessels of 500 GT or more.

4. Guidelines for Qualification for STCW Endorsements as Master or Officer in Charge of a Navigational Watch of Vessels of Less than 500 GT Limited to Near-Coastal Waters (NVIC 13-14). This NVIC describes policy for merchant mariners to qualify for and renew STCW endorsements as Master and OICNW for service on vessels less than 500 GT on near coastal waters.

5. Guidelines for Qualification for STCW Endorsements as Able Seafarer-Deck (NVIC 14-14). This NVIC describes policy for merchant mariners to qualify for and renew STCW endorsements as Able Seafarer-Deck.

6. Guidelines for Qualification for STCW Endorsements as Chief Engineer Officer and Second Engineer Officer on Ships Powered by Main Propulsion Machinery of 3,000 kW/4,000 HP Propulsion Power or More (Management Level) (NVIC 15-14). This NVIC describes policy for merchant mariners to qualify for and renew STCW endorsements as Chief Engineer Officer (CEO) and Second Engineer Officer (2EO) for service on vessels powered by main propulsion machinery of 3,000 kW/4,000 HP propulsion power or more.

7. Guidelines for Qualification for STCW Endorsements of Chief Engineer Officer and Second Engineer Officer on Ships Powered by Main Propulsion Machinery of 750 kW/1,000 HP or More and Less Than 3,000 kW/4,000 HP Propulsion Power (Management Level) (NVIC 16-14). This NVIC describes policy for merchant mariners to qualify for and renew STCW endorsements as CEO and 2EO for service on vessels powered by main propulsion machinery of 750 kW/1,000 HP propulsion power or more and less than 3,000 kW/4,000 HP Propulsion Power.

8. Guidelines for Qualification for STCW Endorsements as Officer In Charge of an Engineering Watch in a Manned Engineroom or Designated Duty Engineer in a Periodically Unmanned Engineroom on Vessels Powered by Main Propulsion Machinery of 750 kW/1,000 HP Propulsion Power or More (Operational Level)(NVIC 17-14). This NVIC describes policy for merchant mariners to qualify for and renew STCW endorsements as Officer in Charge of an Engineering Watch for service on vessels powered by main propulsion machinery of 750 kW/1,000 HP propulsion power or more.

9. Guidelines for Qualification for STCW Endorsements as Able Seafarer-Engine (NVIC 18-14). This NVIC describes policy for merchant mariners to qualify for and renew STCW endorsements as Able Seafarer-Engine.

10. Policy on Qualified Assessors (NVIC 19-14). This NVIC describes policy for Qualified Assessors who will assess the competency of candidates for STCW endorsements.

Authority: This notice is issued under the authority of 5 U.S.C. 552(a).

Dated: April 29, 2014.
J.C. Burton,
Captain, U.S. Coast Guard, Director, Inspection & Compliance.

[FR Doc. 2014-10530 Filed 5-7-14; 8:45 am]

BILLING CODE 9110-04-P